ENVIRONMENTAL PROTECTION AGENCY

[FRL-7172-1]

US EPA Science Advisory Board; Notification of Public Advisory Committee Meeting

Pursuant to the Federal Advisory Committee Act, Public Law 92-463, notice is hereby given that the Executive Committee (EC) of the US EPA Science Advisory Board (SAB) will meet on Wednesday, May 8, 2002 in a publicly accessible conference call convened in the SAB Conference Room (Room 6013, USEPA, Ariel Rios Building, 1200 Pennsylvania Avenue, NW., Washington, DC 20004). The meeting will begin at 11:00 am and adjourn no later than 2:00 pm Eastern Daylight Time. The purpose of the meeting is to take action on an estimated six reports from its Committees and Subcommittees. This meeting is open to the public; however, seating is limited and available on a first come basis. Information on how to access the meeting via conference call is available from Ms. Diana Pozun (see contact information below). The draft SAB reports will be available on the SAB Web site (www.epa.gov/sab) one week prior to the meeting. Documents that are the subject of SAB reviews are normally available from the originating EPA office (see Program Contacts below), not from the SAB Office.

Purpose of the Meeting—The Executive Committee will take action on reports from its Committees and Subcommittees, most likely including the following:

a. “A Framework for Reporting on Ecological Conditions: An SAB Report, prepared by the Ecological Processes and Effects Committee (EPEC). [This report is a self-initiated activity and, hence, there is no background material beyond the report itself.]

b. “USEPA's Surface Impoundment Study: An SAB report”, prepared by the Environmental Engineering Committee (EEC), for the Office of Solid Waste and Emergency Response. [Program contact: Becky Cuthbertson, Phone 703-308-8447 or e-mail cuthbertson.becky@epa.gov]

c. “USEPA's LTESWTR/Stage II DBP Rule Proposal; An SAB report”, prepared by the Drinking Water Committee (DWC), for the Office of Water. [Program contact: Mr. James Taft (Phone: 202-564-4655) or e-mail taft.james@epa.gov]

d. “USEPA's Particulate Matter (PM) Research Centers: An SAB Report”, prepared by the PM Research Centers Interim Review Panel, an ad hoc Subcommittee of the EC, for the Office of Research and Development. [Program contacts: Ms. Stacey Katz (Phone: 202-564-8201, or e-mail katz.stacey@epa.gov) or Ms. Gail Robarge (Phone: 202-564-8301, or e-mail robarge.gail@epa.gov)]

e. “Progress in Improving the SAB's Panel Formation Process: An SAB Commentary”, prepared by the Policies and Procedures Subcommittee, a standing Subcommittee of the EC. [This report is a self-initiated activity and, hence, there is no background material beyond the report itself.]

f. “Southeastern Ecological Framework: An SAB Report”, prepared by the Ecological Processes and Effects Committee (EPEC). [Review materials describing the Southeastern Ecological Framework are available from Dr. Cory Berish, Chief of the Planning and Analysis Branch, U.S. Environmental Protection Agency, Region 4, Atlanta Federal Center, 61 Forsyth Street, SW., Atlanta, GA 30303-8960, telephone (404) 562-8276, or e-mail at berish.cory@epa.gov.]

Availability of Review Materials: The SAB reports to be reviewed by the EC will be available on the SAB Web site (www.epa.gov/sab) at least one week prior to the conference call. Any background Agency documents that were the subject of the SAB reviews are available from the program offices contacts listed above, not from the SAB.

FOR FURTHER INFORMATION: The agenda for the meeting will be posted on the SAB Web site (www.epa.gov/sab) no later than one week prior to the meeting. Members of the public wishing a written agenda or roster of the EC may obtain these from the SAB Web site, or from Ms. Diana Pozun, Program Specialist, EPA Science Advisory Board (1400A), Suite 6450, U.S. EPA, 1200 Pennsylvania Avenue, NW., Washington, DC 20460; telephone/voice mail at (202) 564-4533; fax at (202) 501-0323; or via e-mail at pozun.diana@epa.gov. Any member of the public wishing further information concerning this meeting or wishing to submit brief oral comments (three minutes or less) must contact Dr. Donald Barnes, Designated Federal Officer, EPA Science Advisory Board (1400A), U.S. Environmental Protection Agency, 1200 Pennsylvania Avenue, NW., Washington, DC 20460; telephone (202) 564-4533; FAX (202) 501-0323; or via e-mail at barnes.don@epa.gov. Requests for oral comments must be in writing (e-mail, fax, or mail) and received by Dr. Barnes no later than noon Eastern Time on May 1, 2002.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted above in the following formats: one hard copy with original signature, and one electronic copy via e-mail (acceptable file format: Adobe Acrobat, WordPerfect, Word, or Rich Text files (in IBM-PC/Windows 95/98 format). Those providing written comments at the meeting are also asked to bring 35 copies of their comments for public distribution.

Meeting Access—Individuals requiring special accommodation at this meeting, including wheelchair access to the conference room, should contact Dr. Barnes at least five business days prior to the meeting so that appropriate arrangements can be made.

General Information—Additional information concerning the Science Advisory Board, its structure, function, and composition, may be found on the SAB Web site (http://www.epa.gov/sab) and in the Science Advisory Board FY2001 Annual Staff Report which is available from the SAB Publications Staff at (202) 564-4533 or via fax at (202) 501-0256.

Dated: April 9, 2002.
Donald G. Barnes,
Staff Director, EPA Science Advisory Board.

[FR Doc. 02-9218 Filed 4-15-02; 8:45 am]

BILLING CODE 6560-50-P